DEPARTMENT OF THE INTERIOR

Bureau of Land Management

[16X LLAK980600.L1820000.XX0000.LXSIARAC0000]

Notice of Public Meeting, BLM Alaska Resource Advisory Council

AGENCY: Bureau of Land Management, Alaska State Office, Interior.

ACTION: Notice of public meeting.

SUMMARY: In accordance with the Federal Land Policy and Management Act of 1976 as amended (FLPMA) and the Federal Advisory Committee Act of 1972 (FACA), the Bureau of Land Management (BLM) Alaska Resource Advisory Council (RAC) will meet as indicated below.

DATES: The meeting will be held June 28-30, 2016, at the Arctic Interagency Visitor Center, Dalton Highway, Coldfoot, Alaska 99701. The RAC members will gather at the BLM Fairbanks District Office on June 28 and travel to Coldfoot via a chartered bus. The meeting on June 29 and 30 starts at 8:30 a.m. The council will accept comments from the public on June 29 from 9:30 to 10:30 a.m.

FOR FURTHER INFORMATION CONTACT: June Lowery, RAC Coordinator, BLM Alaska State Office, 222 W. 7th Avenue #13, Anchorage, AK 99513; jlowery@blm.gov; 907-271-3130. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member council advises the Secretary of the Interior, through the BLM, on a variety of planning and management issues associated with public land management in Alaska. At this meeting, the council will discuss the Central Yukon Resource Management Plan during visits to several points of interest in the area to observe mining and mine reclamation, landscape connectivity, recreation, invasive species, and other issues considered during the land-use planning process. An agenda will be posted to the BLM Alaska RAC Web site (www.blm.gov/ak/rac) by June 1, 2016.

All meetings are open to the public. During the public comment period, a teleconference line will be set up for individuals who cannot attend the meeting to provide comments. Individuals who wish to provide a public comment by phone must RSVP to the contact listed in this Notice to obtain the call in number. Depending upon the number of people wishing to comment, time for individual oral comments may be limited. Please be prepared to submit written comments. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation or other reasonable accommodations, should contact the BLM RAC Coordinator listed above.

Dated: May 24, 2016.
Bud C. Cribley,
State Director.

[FR Doc. 2016-12865 Filed 5-31-16; 8:45 am]

BILLING CODE 4310-JA-P